NATIONAL AERONAUTICS AND SPACE ADMINISTRATION

[Notice: (02-121)]

National Environmental Policy Act; International Space Research Park at the John F. Kennedy Space Center, Florida

AGENCY: National Aeronautics and Space Administration (NASA).

ACTION: Notice of intent to prepare an environmental impact statement (EIS) and conduct scoping meetings for the proposed International Space Research Park (ISRP) on the John F. Kennedy Space Center (KSC).

SUMMARY: In compliance with the National Environmental Policy Act of 1969 (NEPA), as amended (42 U.S.C. 4321 et seq.), the Council on Environmental Quality Regulations for Implementing the Procedural Provisions of NEPA (40 CFR parts 1500-1508), and NASA policy and procedures (14 CFR part 1216 subpart 1216.3), NASA intends to conduct scoping and prepare an EIS for the proposed International Space Research Park (ISRP) on the John F. Kennedy Space Center (KSC). NASA is proposing an agreement with the State of Florida, through the Florida Space Authority (FSA), to allow the State of Florida to develop up to 160 hectares (400 acres) of land on KSC as a research park. The State of Florida would develop the property in phases during the next 20 to 25 years. KSC, which is located in Brevard County on the east coast of Florida, is a major locus within NASA of Shuttle and International Space Station (ISS) activities and is adjacent to Cape Canaveral Air Force Station (CCAFS) from which many NASA missions are launched. NASA's goal in developing the ISRP at KSC is to provide an opportunity for commercial, research and educational interests from both governmental and non-governmental sectors to develop new, state-of-the-art facilities to promote the expanded use of space.

The EIS will address, among other matters, the environmental impacts of the development and operation of the research park at two possible locations on KSC.

DATES: Interested parties are invited to submit comments on environmental concerns in writing on or before December 9, 2002, to assure full consideration. In addition, interested parties may attend one or both of the two public scoping meetings to be held on October 24, 2002. The first meeting will be held at the KSC Visitors Complex at 9:30 a.m. The second meeting will be held at the Florida Solar Energy Center on the Cocoa Campus of the Brevard Community College at 7 p.m.

ADDRESSES: Written comments should be addressed to Mr. Mario Busacca, Environmental Program Office, Mail Code TA-C3, Kennedy Space Center, Florida, 32899. Comments may also be sent by electronic mail to: Mario.Busacca-1@ksc.nasa.gov, by facsimile to Mr. Busacca's attention at 321-867-8040, or by visiting the ISRP EIS Web page at http://eis.ksc.nasa.gov/index.cfm.

FOR FURTHER INFORMATION CONTACT: Mr. Mario Busacca, Environmental Program Office, Mail Code TA-C3, Kennedy Space Center, Florida, 32899; 321-867-8456; fax, 321-867-8040; electronic mail: Mario.Busacca-1@ksc.nasa.gov. In addition, status updates and other additional information can be found on the following Web site: http://eis.ksc.nasa.gov/index.cfm.

SUPPLEMENTARY INFORMATION: Some of the key objectives of the KSC mission are to support development of the ISS and growth in the commercial space industry; promote and facilitate general commercial use and development of space; and continue to develop KSC as a world leader in spaceport and range technology development while maintaining the prominence in launch and landing operations of KSC and CCAFS, collectively known as the Cape Canaveral Spaceport (CCS). Towards these ends, KSC believes the development and operation of a commercial-based research park would attract and promote broad-based research and technology development activities. In addition, the development and testing activities would increase the availability of intellectual, physical, and financial resources to directly support the use and development of space and its commercial potential. This outcome would enable NASA to more efficiently perform its core research and exploration missions. Therefore, NASA is proposing to allow the State of Florida, through its FSA, to develop up to 160 hectares (400 acres) of land on KSC as a ISRP. This area would be developed and managed by the FSA for the life of the ISRP, which is up to 50 years. The FSA would seek tenants to build and operate commercial and educational facilities within the ISRP, which would be subdivided into about 24 available parcels ranging in size from approximately two to eight hectares (five to 20 acres) each.

Enterprises, both private and public wishing to engage in or support research and technology, space product development, or commercialized space services that are in alignment with the strategic direction and needs of the FSA would be invited to consider locating their laboratories and offices in the ISRP. The proposed ISRP would be unique and as such would be expected to attract a broad, but synergistic range of activities. Such activities may include university-sponsored research and education, commercial space experiment processing services, spaceport and range technology development and support activities, international laboratories and administrative support for NASA's global partners on the space station, technical and scientific support labs, space business assistance activities, space technology brokerage activities, and business support services required by ISRP tenants. NASA envisions the ISRP as a pedestrian-friendly campus, with features to encourage interaction and collaboration among its tenants. The ISRP would manage all utilities and services for the tenants. All tenants would be required to meet strict eligibility requirements to be allowed to build in the ISRP. Heavy manufacturing or large-scale assembly of space hardware, and any operations deemed hazardous or incompatible with other ISRP users, would not be allowed. Full build-out of the ISRP is not expected for 20 to 25 years. At full build-out, the ISRP would contain facilities that represent a combined floor space of more than 185,000 square meters (2 million square feet) of research and development and related facility space and a total estimated population of approximately 10,000 workers.

An initial Memorandum of Understanding (MOU) between KSC and FSA was signed in December 2001, describing the respective roles of the partners in planning the ISRP and establishing common understandings related to the subsequent implementation and operation of the ISRP. The MOU provides that NASA fund and lead the concept development study with FSA involvement, and FSA fund and manage follow-on engineering, technical, and business studies to prepare for ISRP implementation. The proposed management approach envisioned for the ISRP is that NASA would retain ownership of the property but convey land use and development rights to the FSA for up to 50 years. The FSA would enter into long-term arrangements with ISRP tenants to enable commercially financed space industry firms and academic institutions to build and operate in the ISRP.

NASA is planning to evaluate two locations as reasonable alternatives for the proposed ISRP on KSC: the first alternative site (Alternative 1) is located south of the KSC Visitor Complex and west of Kennedy Parkway, and the second alternative site (Alternative 2) is located east of Kennedy Parkway just to the north of the south gate entrance (Gate 2) to KSC. The EIS will also consider the No Action Alternative (i.e., not developing the ISRP). Alternative 1, the Proposed Action, would result in development in an area of approximately 160 hectares (440 acres) that currently is comprised mostly of citrus groves, some of which are no longer in production. Citrus production will cease, in any event, in 2008. Alternative 1 also contains some 32 hectares (79 acres) of wetlands, not all of which would be impacted by ISRP development. Alternative 2 would result in development in an area that contains 134 hectares (332 acres) of pine flatwoods and scrub habitat and some 27 hectares (67 acres) of wetlands, not all of which would be impacted by ISRP development. Both of these locations were selected in part to accommodate the need for the ISRP to be located outside the KSC security zone to allow for 24-hour access by the tenants.

The EIS will consider the full range of potential environmental impacts associated with these alternatives. Environmental issues addressed will include, but not necessarily be limited to: land use, motor vehicle traffic, air and water quality, infrastructure and drainage, hazardous materials and site contamination, pollution prevention, geology, biological resources, noise, aesthetics, cultural resources, socioeconomic impacts (including environmental justice), and other issues identified for emphasis during the scoping process. NASA will consult with the State Historic Preservation Office during the planning process because Alternative 2 may potentially affect archeological and historic sites. NASA will also consult with the U.S. Fish and Wildlife Service regarding the potential for the ISRP to impact threatened and endangered species and critical habitat.

Dated: October 3, 2002.
Jeffrey E. Sutton,
Assistant Administrator for Management Systems.

[FR Doc. 02-25663 Filed 10-7-02; 8:45 am]

BILLING CODE 7510-01-P